DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Quarterly Survey of Financial Services Transactions between U.S. Financial Services Providers and Foreign Persons.

Form Number(s): BE-185.

Agency Approval Number: 0608-0065.

Type of Request: Extension of a currently approved collection.

Burden: 16,900 hours.

Number of Respondents: 2,500.

Average Hours per Response: 10 hours for mandatory responses and 1 hour per other responses.

Needs and Uses: The Government requires data from the BE-185, Quarterly Survey of Financial Services Transactions between U.S. Financial Services Providers and Foreign Persons, to obtain accurate and up-to-date information on financial services transactions with foreign persons. It will use the data collected in monitoring U.S. exports and imports of financial services, analyzing their impact on the U.S. and foreign economies, supporting U.S. international commercial policy on such financial services, compiling the international transactions, national income and product, and input-output accounts of the United States, assessing U.S. competitiveness in international trade in financial services, and improving the ability of U.S. businesses to identify and evaluate market opportunities.

Affected Public: Businesses or other for-profit organizations and non-profit organizations.

Frequency: Quarterly.

Respondents Obligation: Mandatory.

Legal Authority: Title 22 U.S.C., Sections 3101-3108, as amended and Section 5408 of the Omnibus Trade and Competitiveness Act of 1988.

OMB Desk Officer: Paul Bugg, (202) 395-3093.

You may obtain copies of the above information collection proposal by writing Departmental Paperwork Clearance Officer, Diana Hynek, Department of Commerce, Room 7845, 14th and Constitution Avenue, NW., Washington, DC 20230 or via the Internet at: dhynek@doc.gov.

Send comments on the proposed information collection within 30 days of publication of this notice to Paul Bugg, OMB Desk Officer, via e-mail at pbugg@omb.eop.gov or by fax at (202) 395-7245.

Dated: October 30, 2009.
Glenna Mickelson,
Management Analyst, Office of Chief Information Officer.

[FR Doc. E9-26516 Filed 11-3-09; 8:45 am]

BILLING CODE 3510-06-P